DEPARTMENT OF TRANSPORTATION

Federal Aviation Administration

14 CFR Part 39

[Docket No. 98-NM-312-AD; Amendment 39-11568; AD 2000-03-09]

RIN 2120-AA64

Airworthiness Directives; Cessna Model 560 Series Airplanes

AGENCY: Federal Aviation Administration, DOT.

ACTION: Final rule.

SUMMARY: This amendment supersedes an existing airworthiness directive (AD), applicable to certain Cessna Model 560 series airplanes, that currently requires revising the FAA-approved Airplane Flight Manual (AFM) to provide the flightcrew with limitations, operational procedures, and performance information to be used during approach and landing when residual ice is present or can be expected. This amendment is prompted by reports indicating that, while operating in icing conditions or when ice is on the wings, some of these airplanes have experienced uncommanded roll at (or slightly higher than) the speed at which the stall warning system is activated. This amendment requires revising the AFM and revises the applicability of the existing AD. This amendment also requires modification of the stall warning system of the angle-of-attack computer. The actions specified by this AD are intended to prevent uncommanded roll of the airplane during approach and landing when residual ice is present or can be expected.

DATES: Effective April 3, 2000.

The incorporation by reference of certain publications listed in the regulations is approved by the Director of the Federal Register as of April 3, 2000.

ADDRESSES: The service information referenced in this AD may be obtained from Cessna Aircraft Co., P.O. Box 7706, Wichita, Kansas 67277. This information may be examined at the Federal Aviation Administration (FAA), Transport Airplane Directorate, Rules Docket, 1601 Lind Avenue, SW., Renton, Washington; or at the FAA, Small Airplane Directorate, Wichita Aircraft Certification Office, 1801 Airport Road, Room 100, Mid-Continent Airport, Wichita, Kansas; or at the Office of the Federal Register, 800 North Capitol Street, NW., suite 700, Washington, DC.

FOR FURTHER INFORMATION CONTACT: Carlos Blacklock, Aerospace Engineer, Flight Test and Program Management Branch, ACE-117W, FAA, Small Airplane Directorate, Wichita Aircraft Certification Office, 1801 Airport Road, Room 100, Mid-Continent Airport, Wichita, Kansas 67209; telephone (316) 946-4166; fax (316) 946-4407.

SUPPLEMENTARY INFORMATION: A proposal to amend part 39 of the Federal Aviation Regulations (14 CFR part 39) by superseding AD 96-24-06, amendment 39-9844 (61 FR 64456, December 10, 1996), which is applicable to certain Cessna Model 560 series airplanes, was published in the Federal Register on September 10, 1999 (64 FR 49115). The action proposed to require revising the AFM and would revise the applicability of the existing AD. That action also proposed to require modification of the stall warning system of the angle-of-attack computer.

Interested persons have been afforded an opportunity to participate in the making of this amendment. Due consideration has been given to the comment received.

Request to Withdraw the Proposal

One commenter, the manufacturer, requests that the FAA withdraw the proposal since the manufacturer has written confirmation that the modification described in the appropriate service bulletin, as specified in the proposed AD, has been accomplished on all affected airplanes.

The FAA does not concur that the final rule should be withdrawn. The FAA points out that compliance with the applicable service bulletins is not the only requirement of the final rule. Paragraph (a) of the final rule specifies certain Airplane Flight Manual (AFM) revisions and requires that the FAA-approved AFM be revised in accordance with those specified AFM revisions. The FAA notes that, although the service bulletins specified as the appropriate service information in the final rule contain instructions to revise the AFM, those instructions are not mandatory. Therefore, the FAA cannot be assured that the AFM revision would not be removed in the future. Further, paragraph (b) of the final rule only requires modification of the stall warning system of the angle-of-attack computer of the navigational system. It does not require that other instructions (i.e., revision of the AFM) be accomplished. The FAA has determined that it is necessary to issue the final rule as proposed.

Conclusion

After careful review of the available data, including the comment noted above, the FAA has determined that air safety and the public interest require the adoption of the rule as proposed.

Cost Impact

There are approximately 437 airplanes of the affected design in the worldwide fleet. The FAA estimates that 327 airplanes of U.S. registry will be affected by this AD.

For all airplanes, the new AFM revision that is required by this new AD will take approximately 1 work hour per airplane to accomplish, at an average labor rate of $60 per work hour. Based on these figures, the cost impact of the AFM revision required by this AD on U.S. operators is estimated to be $19,620, or $60 per airplane.

For airplanes listed in Cessna Service Bulletin SB560-34-69, the modification that is required in this new AD will take approximately 40 work hours per airplane to accomplish, at an average labor rate of $60 per work hour. Required parts will cost approximately $8,036 per airplane. Based on these figures, the cost impact of the modification required by this AD on U.S. operators is estimated to be $10,436 per airplane.

For airplanes listed in Cessna Service Bulletin SB560-34-70, the modification that is required in this new AD will take approximately 40 work hours per airplane to accomplish, at an average labor rate of $60 per work hour. Required parts will cost approximately $7,762 per airplane. Based on these figures, the cost impact of the modification required by this AD on U.S. operators is estimated to be $10,162 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9844 (61 FR 64456, December 10, 1996), and by adding a new airworthiness directive (AD), amendment 39-11568, to read as follows:

2000-03-09 Cessna Aircraft Company: Amendment 39-11568. Docket 98-NM-312-AD. Supersedes AD 96-24-06, Amendment 39-9844.

Applicability: Model 560 series airplanes having serial numbers (S/N) 560-0001 through 560-0437 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent uncommanded roll of the airplane during approach and landing when residual ice is present or can be expected, accomplish the following:

Airplane Flight Manual (AFM) Revisions

(a) Within 10 days after the effective date of this AD, revise the FAA-approved Airplane Flight Manual (AFM); to provide the flightcrew with limitations, operational procedures, and performance information to be used during approach and landing when residual ice is present or can be expected; in accordance with the applicable revision of the AFM specified in paragraph (a)(1) or (a)(2) of this AD.

(1) For airplanes having S/N's 560-0001 through 560-0259 inclusive: AFM

Model 560 Citation V, Revision 11, dated July 16, 1998.

(2) For airplanes having S/N's 560-0260 through 560-0437 inclusive: AFM Model 560 Citation V Ultra, Revision 7, dated July 16, 1998.

Modification

(b) Within 6 months after the effective date of this AD, modify the stall warning system of the angle-of-attack computer of the navigational system, in accordance with paragraph (b)(1) or (b)(2), as applicable, of this AD.

(1) For airplanes having S/N's 560-0001 through 560-0055 inclusive: Modify in accordance with Cessna Service Bulletin SB560-34-70, dated July 14, 1998.

(2) For airplanes having S/N's 560-0056 through 560-0437 inclusive: Modify in accordance with Cessna Service Bulletin SB560-34-69, Revision 2, dated July 24, 1998.

Spares

(c) As of the effective date of this AD, no person shall install on any airplane an angle-of-attack computer having part number C11606-2 or C11606-3.

Alternative Methods of Compliance

(d) An alternative method of compliance or adjustment of the compliance time that provides an acceptable level of safety may be used if approved by the Manager, Wichita Aircraft Certification Office (ACO), FAA, Small Airplane Directorate. Operators shall submit their requests through an appropriate FAA Principal Maintenance Inspector, who may add comments and then send it to the Manager, Wichita ACO.

Note 2: Information concerning the existence of approved alternative methods of compliance with this AD, if any, may be obtained from the Wichita ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Cessna Airplane Flight Manual, Model 560 Citation V, Serial -0001 thru -0259, Revision 11, dated July 16, 1998; Cessna Airplane Flight Manual, Model 560 Citation V Ultra, Unit -0260 and on, Revision 7, dated July 16, 1998; Cessna Service Bulletin SB560-34-70, dated July 14, 1998, and Cessna Service Bulletin SB560-34-69, Revision 2, dated July 24, 1998.

(1) Cessna Airplane Flight Manual, Model 560 Citation V, Serial -0001 thru -0259, Revision 11, dated July 16, 1998, contains the following log of effective pages: (Note: The issue date of Revision 11 is indicated only on the title page of the revision.)

Page number | Revision level shown on page
Log of Effective Pages, Pages i through vi | 11

(2) Cessna Airplane Flight Manual, Model 560 Citation V Ultra, Unit -0260 and on, Revision 7, dated July 16, 1998, contains the following log of effective pages: (Note: The issue date of Revision 7 is indicated only on the title page of the revision.)

Page No. | Revision level shown on page
Log of Effective Pages, Pages i through vi | 7

(3) Cessna Service Bulletin SB560-34-69, Revision 2, dated July 24, 1998, contains the following list of effective pages:

Page No. | Revision level shown on page | Date shown on page
1 | 2 | July 24, 1998.
2, 4, 6-9 | Original | September 19, 1997.
3, 5 | 1 | December 16, 1997.
Supplemental Data
1 | A | December 16, 1997.

(4) This incorporation by reference was approved by the Director of the Federal Register in accordance with 5 U.S.C. 552(a) and 1 CFR part 51. Copies may be obtained from Cessna Aircraft Co., P.O. Box 7706, Wichita, Kansas 67277. Copies may be inspected at the FAA, Transport Airplane Directorate, 1601 Lind Avenue, SW., Renton, Washington; or at the FAA, Small Airplane Directorate, Wichita Aircraft Certification Office, 1801 Airport Road, Room 100, Mid-Continent Airport, Wichita, Kansas; or at the Office of the Federal Register, 800 North Capitol Street, NW., suite 700, Washington, DC.

(g) This amendment becomes effective on April 3, 2000.

Issued in Renton, Washington, on February 9, 2000.
Donald L. Riggin,
Acting Manager, Transport Airplane Directorate, Aircraft Certification Service.

[FR Doc. 00-3532 Filed 2-25-00; 8:45 am]

BILLING CODE 4910-13-U